DEPARTMENT OF JUSTICE

Drug Enforcement Administration

[OMB Number 1117-0010]

Agency Information Collection Activities

ACTION: 30-day notice of information collection under review.

Proposed collection; comments requested:

U.S. Official Order Forms for Schedule I and II Controlled Substances (Accountable Forms), Order Form Requisition—DEA Form 222 and 222a

The Department of Justice (DOJ), Drug Enforcement Administration (DEA) will be submitting the following information collection request to the Office of Management and Budget (OMB) for review and approval in accordance with the Paperwork Reduction Act of 1995. The proposed information collection is published to obtain comments from the public and affected agencies. This proposed information collection was previously published in the Federal Register Volume 73, Number 42, page 11443 on March 3, 2008, allowing for a 60 day comment period.

The purpose of this notice is to allow for an additional 30 days for public comment until June 6, 2008. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: U.S. Official Order Forms for Schedule I and II Controlled Substances (Accountable Forms), Order Form Requisition (DEA Form 222 and 222a).

(3) Agency form number, if any, and the applicable component of the Department sponsoring the collection:

Form number: DEA Form 222 and 222a.

Component: Office of Diversion Control, Drug Enforcement Administration, Department of Justice.

(4) Affected public who will be asked or required to respond, as well as a brief abstract:

Primary: Business or other for-profit.

Other: Not-for-profit, State, local or tribal government.

Abstract: DEA-222 is used to transfer or purchase Schedule I and II controlled substances and data are needed to provide an audit of transfer and purchase. DEA-222a Requisition Form is used to obtain the DEA-222 Order Form. Persons may also digitally sign and transmit orders for controlled substances electronically, using a digital certificate. Orders for Schedule I and II controlled substances are archived and transmitted to DEA.

(5) An estimate of the total number of respondents and the amount of time estimated for an average respondent to respond: DEA estimates that 96,280 registrants submit forms annually for this collection, taking an estimated 13.34 hours annually.

(6) An estimate of the total public burden (in hours) associated with the collection: DEA estimates that there will be 1,283,935 annual burden hours associated with the collection.

If additional information is required contact: Lynn Bryant, Department Clearance Officer, United States Department of Justice, Justice Management Division, Policy and Planning Staff, Patrick Henry Building, Suite 1600, 601 D Street, NW., Washington, DC 20530.

Dated: May 2, 2008.
Lynn Bryant,
Department Clearance Officer, PRA, U.S. Department of Justice.

[FR Doc. E8-10082 Filed 5-6-08; 8:45 am]

BILLING CODE 4410-09-P